DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 16, 2013. Address written comments to Statutory Import Programs Staff, Room 3720, U.S. Department of Commerce, Washington, DC 20230. Applications may be examined between 8:30 a.m. and 5:00 p.m. at the U.S. Department of Commerce in Room 3720.

Docket Number: 13-025. Applicant: University of Virginia, Wilsdorf Hall, P.O. Box 400745, 395 McCormick Drive, Charlottesville, VA 22904-4745. Instrument: Electron Microscope. Manufacturer: FEI Company, the Netherlands. Intended Use: The instrument will be used to identify the different phases in materials such as metals and alloys, semiconductors, polymers, and biological specimens, as well as the compositions of certain parts of these materials, the cause of failure in some, and the morphology and/or crystallography of specimens fabricated by various processes. The instrument will be used to analyze the specimens in a high, medium, or low vacuum. Justification for Duty-Free Entry: There are no instruments of the same general category manufactured in the United States. Application accepted by Commissioner of Customs: May 24, 2013.

Docket Number: 13-026. Applicant: Yale University, 850 West Campus Drive, Bldg. ISTC, Room 213C, West Haven, CT 06516. Instrument: Electron Microscope. Manufacturer: JEOL Ltd., Japan. Intended Use: The instrument will be used to develop novel platforms based on self-assembled DNA nanostructures for studying cell biology. DNA nanostructures will be designed by computer-aided design software, and the correctly formed nanostructures will be confirmed using the instrument. Justification for Duty-Free Entry: There are no instruments of the same general category manufactured in the United States. Application accepted by Commissioner of Customs: June 3, 2013.

Docket Number: 13-027. Applicant: United States Army Medical Research Institute of Chemical Defense, 3100 Ricketts Point Road, Aberdeen Proving Ground, MD 21010-5400. Instrument: Electron Microscope. Manufacturer: JEOL Ltd., Japan. Intended Use: The instrument will be used to define the various pathologies associated with exposure to chemical warfare agents, to define a window of opportunity for medical intervention and to assess the success of treatments and countermeasures. The instrument will provide a means of studying the morphology and ultrastructural pathology/cellular morphology of and for characterization of the elemental composition of experimental samples. Justification for Duty-Free Entry: There are no instruments of the same general category manufactured in the United States. Application accepted by Commissioner of Customs: June 19, 2013.

Docket Number: 13-029. Applicant: Arizona State University, P.O. Box 875212, Tempe, AZ 85287-5212. Instrument: Electron Microscope. Manufacturer: FEI Company, the Netherlands. Intended Use: The instrument will be used to observe and understand physical and chemical processes at the most fundamental atomic level. Phenomena to be studied will include oxidation, reduction, corrosion and nanoparticle growth. The instrument will allow time-resolved in situ studies of the dynamic behavior of nanostructured materials, such as complex oxides and metal particle catalysts during exposure to reactive gas environments and elevated temperatures. The instrument is also capable of electron holography, which is a technique that allows nanoscale electric and magnetic fields to be measured and quantified with sub-nanometer resolution. Justification for Duty-Free Entry: There are no instruments of the same general category manufactured in the United States. Application accepted by Commissioner of Customs: July 9, 2013.

Docket Number: 13-032. Applicant: Howard Hughes Medical Institute, 4000 Jones Bridge Road, Chevy Chase, MD 20815. Instrument: Electron Microscope. Manufacturer: FEI Company, Czech Republic. Intended Use: The instrument will be used to examine the ultrastructural organization of complex biological structures to help elucidate the function of biological specimens such as protein complexes, noninfectious virus, and small cells. Justification for Duty-Free Entry: There are no instruments of the same general category manufactured in the United States. Application accepted by Commissioner of Customs: July 23, 2013.

Docket Number: 13-033. Applicant: University of Pittsburgh School of Medicine, 3500 Terrace Street, Biomedical Science Tower, S-225, Pittsburgh, PA 15261. Instrument: Electron Microscope. Manufacturer: JEOL Ltd., Japan. Intended Use: The instrument will be used to study viruses, bacteria, cells, tissues, and biomaterials to examine their ultrastructure, as well as immunologic studies of biological samples analyzing changes in morphology of particles or tissue or localization of proteins within cells and tissues. Justification for Duty-Free Entry: There are no instruments of the same general category manufactured in the United States. Application accepted by Commissioner of Customs: July 25, 2013.

Dated: August 15, 2013.
Gregory W. Campbell,
Director of Subsidies Enforcement, Import Administration.

[FR Doc. 2013-20753 Filed 8-23-13; 8:45 am]

BILLING CODE 3510-DS-P